DEPARTMENT OF ENERGY

Federal Energy Regulatory Commission

Combined Notice of Filings #1

November 29, 2006.

Take notice that the Commission received the following electric corporate filings:

Docket Numbers: EC07-25-000.

Applicants: Duquesne Light Holdings, Inc.; DQE Financial Corporation; Montauk Energy Capital, LLC; Monmouth Energy, Inc.; Blue Wolf Holdings LLC.

Description: Duquesne Light Holdings, Inc. et al submit an application for authorization under section 206 of the FPA for Disposition of Jurisdictional Facilities.

Filed Date: 11/22/2006.

Accession Number: 20061128-0036.

Comment Date: 5 p.m. Eastern Time on Wednesday, December 13, 2006.

Take notice that the Commission received the following exempt wholesale generator filings:

Docket Numbers: EG07-15-000.

Applicants: Twin Buttes Wind LLC.

Description: Twin Buttes Wind LLC submits a notice of Self-Certification of an Exempt Wholesale Generator Status located in Portland, Oregon.

Filed Date: 11/22/2006.

Accession Number: 20061122-5041.

Comment Date: 5 p.m. Eastern Time on Wednesday, December 13, 2006.

Take notice that the Commission received the following electric rate filings:

Docket Numbers: ER02-2189-004.

Applicants: Southern California Edison Company.

Description: Southern Edison Company submits revised sheets, First Revised Service Agreement 53, First Revised Volume 5, Interconnection Facilities Agreement with Whitewater Hill Wind Partners.

Filed Date: 11/24/2006.

Accession Number: 20061128-0288.

Comment Date: 5 p.m. Eastern Time on Friday, December 15, 2006.

Docket Numbers: ER03-739-001.

Applicants: El Dorado Irrigation District.

Description: El Dorado Irrigation District submits an amendment to its updated market power analysis for the Market Based Rate Authorization.

Filed Date: 11/27/2006.

Accession Number: 20061129-0186.

Comment Date: 5 p.m. Eastern Time on Thursday, December 7, 2006.

Docket Numbers: ER04-7-002.

Applicants: Sierra Pacific Energy, LLP.

Description: Sierra Pacific Energy, LLP submits an amendment to its Triennial Market Power Analysis.

Filed Date: 11/20/2006.

Accession Number: 20061122-0099.

Comment Date: 5 p.m. Eastern Time on Monday, December 11, 2006.

Docket Numbers: ER04-734-001.

Applicants: Barclays Bank PLC.

Description: Barclays Bank PLC submits a non-material change in characteristics that the Commission relied upon in granting their market-based rate authorization on 6/2/04.

Filed Date: 11/24/2006.

Accession Number: 20061128-0304.

Comment Date: 5 p.m. Eastern Time on Friday, December 15, 2006.

Docket Numbers: ER05-1179-007.

Applicants: Berkshire Power Company, LLC.

Description: Berkshire Power Co, LLC submits Substitute Original Sheet 25 et al to Rate Schedule FERC 2 to the Amended and Restated RMR Agreement filed on 10/20/06.

Filed Date: 11/21/2006.

Accession Number: 20061128-0298.

Comment Date: 5 p.m. Eastern Time on Tuesday, December 12, 2006.

Docket Numbers: ER06-1309-001.

Applicants: Southwest Power Pool, Inc.

Description: Southwest Power Pool Inc. submits revisions to its Network Integration Transmission Service Agreement w/The Empire District Electric Company.

Filed Date: 11/22/2006.

Accession Number: 20061128-0299.

Comment Date: 5 p.m. Eastern Time on Wednesday, December 13, 2006.

Docket Numbers: ER06-1360-002.

Applicants: California Independent System Operator Corporation.

Description: The California Independent System Operator Corp submits a compliance filing, revised Transmission Control Agreement, Rate Schedule 7, pursuant to Commission's 11/13/06 Order.

Filed Date: 11/22/2006.

Accession Number: 20061128-0305.

Comment Date: 5 p.m. Eastern Time on Wednesday, December 13, 2006.

Docket Numbers: ER06-1399-002.

Applicants: Sunbury Generation LP.

Description: Sunbury Generation, LLC submits an amendment to its Notice of Succession in which it adopts and files its own market based rate tariff, FERC Electric Tariff, Original Volume 1.

Filed Date: 11/24/2006.

Accession Number: 20061128-0302.

Comment Date: 5 p.m. Eastern Time on Friday, December 15, 2006.

Docket Numbers: ER06-1412-001.

Applicants: Midwest Independent Transmission System Operator, Inc.

Description: Midwest Independent Transmission System Operator, Inc submits proposed revisions to section 43.7 of its OAT&EM Tariff, Third Revised Volume No. 1.

Filed Date: 11/22/2006.

Accession Number: 20061128-0291.

Comment Date: 5 p.m. Eastern Time on Wednesday, December 13, 2006.

Docket Numbers: ER06-1420-001.

Applicants: Midwest Independent Transmission System Operator, Inc.

Description: Midwest Independent Transmission System Operator, Inc submits revisions to the Midwest Contingency Reserve Sharing Group Agreement in compliance with the Commission's 10/24/06 Order.

Filed Date: 11/22/2006.

Accession Number: 20061128-0294.

Comment Date: 5 p.m. Eastern Time on Wednesday, December 13, 2006.

Docket Numbers: ER06-1463-002.

Applicants: Empire District Electric Company.

Description: The Empire District Electric Company submits its First Revised Sheet 12 et al to its Electric Tariff, Original Volume 2, pursuant to the Commission's 10/26/06 Order.

Filed Date: 11/22/2006.

Accession Number: 20061128-0290.

Comment Date: 5 p.m. Eastern Time on Wednesday, December 13, 2006.

Docket Numbers: ER07-238-000.

Applicants: Consolidated Water Power Company.

Description: Consolidated Water Power Co submits a notice of cancellation and revised rate schedule sheet to terminate the Service Agreement for Wholesale Distribution Service.

Filed Date: 11/20/2006.

Accession Number: 20061124-0085.

Comment Date: 5 p.m. Eastern Time on Monday, December 11, 2006.

Docket Numbers: ER07-241-000.

Applicants: Vermont Transco LLC.

Description: Vermont Transco LLC submits an Amended and Restated Three Party Transmission Agreement, designated as FERC Electric Rate Schedule 5.

Filed Date: 11/22/2006.

Accession Number: 20061128-0308.

Comment Date: 5 p.m. Eastern Time on Wednesday, December 13, 2006.

Docket Numbers: ER07-242-000.

Applicants: MinnDakota Wind LLC.

Description: MinnDakota Wind, LLC submits an application for initial rate schedule rate, Original Volume No. 1, for market-based rate authority under section 205 of the FPA.

Filed Date: 11/22/2006.

Accession Number: 20061128-0306.

Comment Date: 5 p.m. Eastern Time on Wednesday, December 13, 2006.

Docket Numbers: ER07-243-000.

Applicants: Southwest Power Pool, Inc.

Description: Southwest Power Pool, Inc. submits its Revised Executed Service Agreement for Firm Point-to-Point Transmission Service with Southwestern Public Service Co.

Filed Date: 11/22/2006.

Accession Number: 20061128-0307.

Comment Date: 5 p.m. Eastern Time on Wednesday, December 13, 2006.

Docket Numbers: ER07-244-000.

Applicants: Raven Three, LLC.

Description: Raven Three, LLC submits an Application for Order Authorizing Market-Based Rates, Certain Waivers, and Blanket Authorizations.

Filed Date: 11/22/2006.

Accession Number: 20061128-0300.

Comment Date: 5 p.m. Eastern Time on Wednesday, December 13, 2006.

Docket Numbers: ER07-245-000.

Applicants: Raven Two, LLC.

Description: Raven Two, LLC submits an application for order authorizing market-based rates, certain waivers, and blanket authorizations.

Filed Date: 11/22/2006.

Accession Number: 20061128-0292.

Comment Date: 5 p.m. Eastern Time on Wednesday, December 13, 2006.

Docket Numbers: ER07-246-000.

Applicants: American Electric Power Service Corporation.

Description: Appalachian Power Co et al submits revisions to the Annual Transmission Rates—AEP East Operating Companies for Network Integration Transmission Service, Attachment H014 of the PJM Interconnection LLC's OATT.

Filed Date: 11/22/2006.

Accession Number: 20061128-0309.

Comment Date: 5 p.m. Eastern Time on Wednesday, December 13, 2006.

Docket Numbers: ER07-247-000.

Applicants: Raven One, LLC.

Description: Raven One, LLC submits an order for authorizing market-based rates, certain waivers and blanket authorizations.

Filed Date: 11/22/2006.

Accession Number: 20061128-0293.

Comment Date: 5 p.m. Eastern Time on Wednesday, December 13, 2006.

Docket Numbers: ER07-248-000.

Applicants: Southern Company Services, Inc.

Description: Southern Company Services, Inc on behalf of Alabama Power Company et al submits a rollover service agreement for long-term firm point-to-point transmission service under its OATT.

Filed Date: 11/24/2006.

Accession Number: 20061128-0303.

Comment Date: 5 p.m. Eastern Time on Friday, December 15, 2006.

Take notice that the Commission received the following public utility holding company filings:

Docket Numbers: PH07-6-000.

Applicants: GAMCO Investors, Inc.

Description: GAMCO Investors, Inc. submits a Notification of Exemption pursuant to section 366.3 of the PUCHA 2005.

Filed Date: 11/14/2006.

Accession Number: 20061114-5007.

Comment Date: 5 p.m. Eastern Time on Tuesday, December 5, 2006.

Any person desiring to intervene or to protest in any of the above proceedings must file in accordance with Rules 211 and 214 of the Commission's Rules of Practice and Procedure (18 CFR 385.211 and 385.214) on or before 5 p.m. Eastern time on the specified comment date. It is not necessary to separately intervene again in a subdocket related to a compliance filing if you have previously intervened in the same docket. Protests will be considered by the Commission in determining the appropriate action to be taken, but will not serve to make protestants parties to the proceeding. Anyone filing a motion to intervene or protest must serve a copy of that document on the Applicant. In reference to filings initiating a new proceeding, interventions or protests submitted on or before the comment deadline need not be served on persons other than the Applicant.

The Commission encourages electronic submission of protests and interventions in lieu of paper, using the FERC Online links at http://www.ferc.gov. To facilitate electronic service, persons with Internet access who will eFile a document and/or be listed as a contact for an intervenor must create and validate an eRegistration account using the eRegistration link. Select the eFiling link to log on and submit the intervention or protests.

Persons unable to file electronically should submit an original and 14 copies of the intervention or protest to the Federal Energy Regulatory Commission, 888 First St., NE., Washington, DC 20426.

The filings in the above proceedings are accessible in the Commission's eLibrary system by clicking on the appropriate link in the above list. They are also available for review in the Commission's Public Reference Room in Washington, DC. There is an eSubscription link on the Web site that enables subscribers to receive e-mail notification when a document is added to a subscribed dockets(s). For assistance with any FERC Online service, please e-mail FERCOnlineSupport@ferc.gov. or call (866) 208-3676 (toll free). For TTY, call (202) 502-8659.

Magalie R. Salas,
Secretary.

[FR Doc. E6-20827 Filed 12-7-06; 8:45 am]

BILLING CODE 6717-01-P